DEPARTMENT OF STATE

[Public Notice 8337]

30-Day Notice of Proposed Information Collection: Iran Democracy Program Grants Vetting

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to June 27, 2013.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Danika Walters, Office of Iranian Affairs, 2201 C St. NW., Room 1245, Washington, DC 20520, who may be reached on 202-647-1347 or at WaltersDL@state.gov.

SUPPLEMENTARY INFORMATION: • Title of Information Collection: Iran Program Grants Vetting.

• OMB Control Number: 1405-0176.

• Type of Request: Extension.

• Originating Office: Office of Iranian Affairs, Bureau of Near Eastern Affairs (NEA/IR).

• Form Number: DS-4100.

• Respondents: Potential grantees and participants for Iran programs.

• Estimated Number of Respondents: 200.

• Estimated Number of Responses: 200.

• Average Time per Response: 1 hour.

• Total Estimated Burden Time: 200 hours.

• Frequency: On occasion.

• Obligation to Respond: Required to obtain or retain a benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: Awarding grants is a key component of the State Department's Iran policy. As a condition of licensing these activities, the Office of Foreign Assets Control (OFAC) requires the Department to conduct potential Iran program grantees and sub-grantees for counter-terrorism purposes. To conduct this vetting, the Department collects information from grantees and sub-grantees regarding the identity and background of their key employees, boards of directors and program participants.

Methodology: We will collect this information either through fax or electronic submission.

Dated: May 17, 2013.
Danika Walters,
Program Director, Office of Iranian Affairs, Bureau of Near Eastern Affairs, Department of State.

[FR Doc. 2013-12607 Filed 5-24-13; 8:45 am]

BILLING CODE 4710-31-P